LEGAL SERVICES CORPORATION

Sunshine Act Meetings

TIME AND DATE: The Legal Services Corporation (LSC) Board of Directors and its committees will meet July 25-27, 2023. On Tuesday, July 25, the first meeting will begin at 12:15 p.m. EDT, with the next meeting commencing promptly upon adjournment of the immediately preceding meeting. On Wednesday, July 26, the first meeting will begin at 11:00 a.m. EDT, with the next meeting commencing promptly upon adjournment of the immediately preceding meeting. On Thursday, July 27, the first meeting will begin at 8:45 a.m. EDT, with the next meeting commencing promptly upon adjournment of the immediately preceding meeting.

PLACE:

Public Notice of Hybrid Meeting. LSC will conduct its July 25-27, 2023, meetings at the Ford Foundation Center for Social Justice, 320 East 43rd Street, New York, NY 10017, and virtually via Zoom video conference.

Public Observation: Unless otherwise noted herein, the Board and all committee meetings will be open to virtual public observation via Zoom video conference. To observe the meetings in person, members of public must RSVP in advance by sending an email to Jessica Wechter, wechterj@lsc.gov, no later than 5 p.m. Eastern time on Friday, July 21, 2023. Members of the public who wish to participate virtually in the public proceedings may do so by following the directions provided below.

Directions for Open Sessions

Tuesday, July 25, 2023

To join the Zoom meeting by computer, please use this link.

○ https://lsc-gov.zoom.us/j/89104405342?pwd=ckRmdjd0SVZTYXNUNDdSb3MxQUduUT09

○ Meeting ID: 891 0440 5342

○ Passcode: 72523

To join the Zoom meeting by telephone, please dial one of the following numbers:

○ +1 312 626 6799 US (Chicago)

○ +1 646 876 9923 US (New York)

○ +1 301 715 8592 US (Washington, DC)

○ +1 346 248 7799 US (Houston)

○ +1 408 638 0968 US (San Jose)

○ +1 669 900 6833 US (San Jose)

○ +1 253 215 8782 US (Tacoma)

○ Meeting ID: 891 0440 5342

○ Passcode: 72523

Wednesday, July 26, 2023

To join the Zoom meeting by computer, please use this link.

○ https://lsc-gov.zoom.us/j/83324952596?pwd=cWdqR3M0WjlFV2lmVGc4UTFvMXlnZz09

○ Meeting ID: 833 2495 2596

○ Passcode: 72623

To join the Zoom meeting by telephone, please dial one of the following numbers:

○ +1 312 626 6799 US (Chicago)

○ +1 646 876 9923 US (New York)

○ +1 301 715 8592 US (Washington, DC)

○ +1 346 248 7799 US (Houston)

○ +1 408 638 0968 US (San Jose)

○ +1 669 900 6833 US (San Jose)

○ +1 253 215 8782 US (Tacoma)

○ Meeting ID: 833 2495 2596

○ Passcode: 72623

Thursday, July 27, 2023

To join the Zoom meeting by computer, please use this link.

○ https://lsc-gov.zoom.us/j/88670578996?pwd=cVBQdVZwZmYva3FNdUVZUzFRY0Vydz09

○ Meeting ID: 886 7057 8996

○ Passcode: 72723

To join the Zoom meeting by telephone, please dial one of the following numbers:

○ +1 312 626 6799 US (Chicago)

○ +1 646 876 9923 US (New York)

○ +1 301 715 8592 US (Washington, DC)

○ +1 346 248 7799 US (Houston)

○ +1 408 638 0968 US (San Jose)

○ +1 669 900 6833 US (San Jose)

○ +1 253 215 8782 US (Tacoma)

○ Meeting ID: 886 7057 8996

○ Passcode: 72723

If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Governance and Performance Review Committee—Open, except that, upon a vote of the Board of Directors, the meeting may be closed to the public for a discussion on staffing in LSC's Executive Office and Office of Institutional Advancement.

Institutional Advancement Meeting—Open, except that, upon a vote of the Board of Directors, the meeting may be closed to the public for a briefing on development activities and discussion of prospective new Leaders Council and Emerging Leaders Council members.

Finance Committee—Open, except that, upon a vote of the Board of Directors, the meeting may be closed to the public for a discussion of insurance matters.

Audit Committee—Open, except that, upon a vote of the Board of Directors, the meeting may be closed to the public for a briefing by the Office of Compliance and Enforcement on active enforcement matters(s) and follow-up on open investigation referrals from the Office of Inspector General, and for an update on LSC's systems of internal controls that are designed to minimize the risk of fraud, theft, corruption, or misuse of funds.

Board of Directors—Open, except that, upon a vote of the Board of Directors, a portion of the meeting may be closed to the public to receive briefings by management and LSC's Inspector General and to consider and act on the General Counsel's report on potential and pending litigation involving LSC. The Board also will receive a briefing on planning for LSC's 50th Anniversary and consider and act on a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Governance and Performance Review Committee, Institutional Advancement Committee, Finance Committee, Audit Committee, and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Tuesday, July 25, 2023

Start Time: 12:15 p.m. EDT

Governance and Performance Review Committee

Open Session

1. Approval of Agenda

2. Approval of Minutes of the Committee's Open and Closed Session Meeting on March 26, 2023

3. Report on U.S. Department of Justice's Access to Justice Office and White House Legal Aid Interagency Roundtable (LAIR)

4. Public Comment

5. Consider and Act on Other Business

6. Consider and Act on Motion to Adjourn the Open Session Meeting

Closed Session

7. Management Briefing on Staffing of Executive Office and Office of Institutional Advancement

8. Consider and Act on Motion to Adjourn the Closed Session Meeting

Operations and Regulations Committee

Open Session

1. Approval of Agenda

2. Approval of Minutes of the Committee's Open Session Meeting on March 13, 2023

3. Consider and act on Justification Memorandum to Authorize Rulemaking on 45 CFR part 1638—Restriction on Solicitation

4. Briefing on Preliminary Work Plan for Rulemaking on 45 CFR Part 1609—Fee-Generating Cases

5. Briefing on Performance and Talent Management

6. Public Comment

7. Consider and Act on Other Business

8. Consider and Act on Adjournment of Meeting

Institutional Advancement Committee

Open Session

1. Approval of Agenda

2. Approval of Minutes of the Institutional Advancement Committee's Open Session Meeting on March 27, 2023

3. Update on Leaders Council and Emerging Leaders Council

4. Development Report

5. Update on Opioid Task Force Implementation

6. Update on Housing Task Force

7. Public Comment

8. Consider and Act on Other Business

9. Consider and Act on Motion to Adjourn the Open Session Meeting and Proceed to a Closed Session

Closed Session

10. Approval of Minutes of the Institutional Advancement Committee's Closed Session Meeting on March 27, 2023

11. Development Activities Report

12. Update on LSC's 50th Anniversary Fundraising Campaign

13. Consider and Act on Motion to Approve Leaders Council and Emerging Leaders Council Invitees

14. Consider and Act on Other Business

15. Consider and Act on Motion to Adjourn the Meeting

Communications Subcommittee of the Institutional Advancement Committee

Open Session

1. Approval of Agenda

2. Approval of Minutes of the Subcommittee's Open Session Meeting on March 26, 2023

3. Communications and Social Media Update

4. Public Comment

5. Consider and Act on Other Business

6. Consider and Act on Motion to Adjourn the Meeting

Delivery of Legal Services Committee

Open Session

1. Approval of Agenda

2. Approval of Minutes of the Committee's Open Session meeting on March 27, 2023

3. LSC Performance Criteria Revisions Update

4. Updates from the Office of Data Governance and Analysis: Highlights from 2022 Grantee Activity Reports & Civil Court Data Initiative

5. Public Comment

6. Consider and Act on Other Business

7. Consider and Act on a Motion to Adjourn the Meeting

Wednesday, July 26, 2023

Start Time: 11:00 a.m. EDT

Finance Committee

Open Session

1. Approval of Agenda

2. Approval of the Minutes of the Finance Committee's Open Session Meeting on June 27, 2023

3. Presentation of LSC's Financial Report for the First Nine Months of Fiscal Year 2023 (Period from October 1, 2022 to June 30, 2023)

4. Report on the Fiscal Year 2024 Appropriations Process and Supplemental Appropriations

5. Consider and Act on Resolution #2023-XXX: Fiscal Year 2024 Temporary Operating Authority

6. Public Comment

7. Consider and Act on Other Business

8. Consider and Act on Motion to Adjourn the Open Session Meeting and Proceed to a Closed Session

Closed Session

8. Briefing on Insurance

9. Consider and Act on Motion to Adjourn the Meeting

Audit Committee

Open Session

1. Approval of Agenda

2. Approval of Minutes of Audit Committee's Open Session Meeting on March 26, 2023

3. Approval of the Minutes of Combined Audit and Finance Committee's Open Session Meeting on March 27, 2023

4. Briefing by the Office of Inspector General

5. Management Update Regarding Risk Management

6. Briefing on Management/Office of Inspector General Relations

7. Briefing About Follow-Up by the Office of Compliance and Enforcement on Referrals by the Office of Inspector General Regarding Audit Reports and Annual Financial Statement Audits of Grantees

8. Public Comment

9. Consider and Act on Other Business

10. Consider and Act on Motion to Adjourn the Open Session Meeting and Proceed to a Closed Session

Closed Session

11. Approval of Minutes of Audit Committee's Closed Session Meeting on March 26, 2023

12. Approval of the Minutes of Combined Audit and Finance Committee's Closed Session Meeting on March 27, 2023

13. Briefing by Office Compliance and Enforcement on Active Enforcement Matter(s) and Follow-Up on Open Investigation Referrals from the Office of Inspector General

14. Briefing Pursuant to Section VIII(C)(1) of the Committee Charter, Regarding LSC's Systems of Internal Controls that Are Designed to Minimize the Risk of Fraud, Theft, Corruption, or Misuse of Funds

15. Consider and Act on Motion to Adjourn the Meeting

Thursday, July 27, 2023

Start Time: 8:45 a.m. EDT

Board of Directors

Open Session

1. Pledge of Allegiance

2. Approval of Agenda

3. Approval of Minutes of the Board's Open Session Meeting on May 19, 2023

4. Consider and Act on Resolution #2023-XXX: Approving the Minnesota Charitable Organization Annual Report Form

5. Consider and Act on Resolution #2023-XXX: In Recognition and Appreciation of Distinguished Service by Members of the LSC Housing Task Force

6. Chairman's Report

7. Members' Reports

8. President's Report

9. Presentation on 50th Anniversary Communications and Messaging

10. Inspector General's Report

11. Consider and Act on the Report of the Governance and Performance Review Committee

12. Consider and Act on the Report of the Operations and Regulations Committee

13. Consider and Act on the Report of the Institutional Advancement Committee

14. Consider and Act on the Report of the Delivery of Legal Services Committee

15. Consider and Act on the Report of the Finance Committee

16. Consider and Act on the Report of the Audit Committee

17. Public Comment

18. Consider and Act on Other Business

19. Consider and Act on Whether to Authorize a Closed Session of the Board to Address Items Listed Below

Closed Session

20. Approval of Minutes of the Board's Closed Session Meeting on March 28, 2023

21. Management's Briefing

22. Update on 50th Anniversary Planning

23. Inspector General's Briefing

24. General Counsel's Report on Outside Counsel Expenditures

25. Consider and Act on Potential and Pending Litigation Involving Legal Services Corporation

26. Consider and Act on List of Prospective Leaders Council and Emerging Council Invitees

27. Consider and Act on Motion to Adjourn the Meeting

CONTACT PERSON FOR MORE INFORMATION: Jessica Wechter, Special Assistant to the President, (202) 295-1626. Questions may also be sent by email to wechterj@lsc.gov.

Non-Confidential Meeting Materials: Please refer to the LSC website (https://www.lsc.gov/events/board-directors-quarterly-meeting-july-25-27-2023-new-york-ny) for the final meeting agendas and materials in electronic format. Non-confidential meeting materials will be made available in electronic format at least 24 hours in advance of the meeting on the LSC website.

(Authority: 5 U.S.C. 552b.)

Dated: July 15, 2023.
Mark Freedman,
Senior Associate General Counsel, Legal Services Corporation.

[FR Doc. 2023-15370 Filed 7-17-23; 11:15 am]

BILLING CODE 7050-01-P